DEPARTMENT OF DEFENSE

Office of the Secretary

32 CFR Part 117

[Docket ID: DOD-2019-OS-0059]

RIN 0790-AI71

National Industrial Security Program

AGENCY: Office of the Under Secretary of Defense for Intelligence, DoD.

ACTION: Final rule.

SUMMARY: This final rule removes the DoD's regulations on the National Industrial Security Program (NISP) regarding industrial security procedures and practices related to foreign ownership, control, or influence (FOCI) for U.S. Government activities. The interim final rule currently in effect is duplicative and obsolete. The Director of the National Archives and Records Administration's (NARA) Information Security Oversight Office (ISOO) is responsible for implementing and monitoring Executive Branch implementation of the NISP, and DoD's rule duplicates an amendment to the NARA rule on the same subject.

DATES: This rule is effective on September 11, 2019.

FOR FURTHER INFORMATION CONTACT: Valerie Heil at 703-692-3754.

SUPPLEMENTARY INFORMATION: It has been determined that publication of this rule removal in the CFR for public comment is impracticable, unnecessary, and contrary to public interest since it is based on removing duplicative information. DoD implementation of the NISP is conducted in accordance with Executive Order 12829, “National Industrial Security Program,” and the ISOO rule at 32 CFR part 2004 of the same name. Revisions to 32 CFR part 2004 were finalized on May 7, 2018 (83 FR 19950) which govern DoD's NISP and made the content in part 117 redundant. Subpart C of part 117 should now be removed as it is duplicative and less comprehensive than 32 CFR part 2004. The part will be reserved in anticipation of the future need for DoD to issue a companion rule on the subject.

This rule is not significant under Executive Order (E.O.) 12866, “Regulatory Planning and Review,” therefore, the requirements of E.O. 13771, “Reducing Regulation and Controlling Regulatory Costs” do not apply.

List of Subjects in 32 CFR Part 117

Classified information, Control or influence procedures, Facility security clearances, Foreign ownership, Security measures.

PART 117—[REMOVED AND RESERVED]

Accordingly, by the authority of 5 U.S.C. 301, 32 CFR part 117 is removed and reserved.

Dated: September 5, 2019.
Shelly E. Finke,
Alternate OSD Federal Register Liaison Officer, Department of Defense.

[FR Doc. 2019-19518 Filed 9-10-19; 8:45 am]

BILLING CODE 5001-06-P